COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from Procurement List.

SUMMARY: The Committee is proposing to add to the Procurement List commodities and services to be furnished by nonprofit agencies employing persons who are blind or have other severe disabilities, and to delete commodities previously furnished by such agencies.

Comments Must Be Received on or Before: July 23, 2001.

ADDRESSES: Committee for Purchase From People Who Are Blind or Severely Disabled, Jefferson Plaza 2, Suite 10800, 1421 Jefferson Davis Highway, Arlington, Virginia 22202-3259.

FOR FURTHER INFORMATION CONTACT: Patrick T. Mooney (703) 603-7740.

SUPPLEMENTARY INFORMATION: This notice is published pursuant to 41 U.S.C. 47(a) (2) and 41 CFR 51-2.3. Its purpose is to provide interested persons an opportunity to submit comments on the possible impact of the proposed actions.

Additions

If the Committee approves the proposed addition, the entities of the Federal Government identified in this notice for each commodity or service will be required to procure the commodities and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited.

Commenters should identify the statement(s) underlying the certification on which they are providing additional information. The following commodities and services are proposed for addition to Procurement List for production by the nonprofit agencies listed:

Commodities

Air Freshener, Zooville Animal

M.R. 475

NPA: Industries of the Blind, Inc., Greensboro, North Carolina

Government Agency: Defense Commissary Agency, Fort Lee, VA

Broom, Swivel Head

M.R. 1043

NPA: Industries for the Blind, Inc., Milwaukee, Wisconsin

Government Agency: Defense Commissary Agency, Fort Lee, VA

Services

Janitorial/Custodial

Bolling Air Force Base, Washington, DC

NPA: Davis Memorial Goodwill Industries, Washington, DC

Government Agency: Department of the Air Force, Bolling Air Force Base, DC

Janitorial/Custodial

Defense Supply Center—Richmond, Richmond, Virginia

NPA: Richmond Area Association for Retarded Citizens, Richmond, Virginia

Government Agency: Defense Supply Center—Richmond, Richmond, VA

Mailroom Operation

U.S. Customs Service, Gulf CMC, 423 Canal Street, New Orleans, Louisiana

NPA: Goodworks, Inc., New Orleans, Louisiana

Government Agency: Department of the Treasury, New Orleans, Louisiana

Deletions

I certify that the following action will not have a significant impact on a substantial number of small entities. The major factors considered for this certification were:

1. The action will not result in any additional reporting, recordkeeping or other compliance requirements for small entities.

2. The action will result in authorizing small entities to furnish the commodities and services to the Government.

3. There are no known regulatory alternatives which would accomplish the objectives of the Javits-Wagner-O'Day Act (41 U.S.C. 46-48c) in connection with the commodities and services proposed for deletion from the Procurement List.

The following commodities are proposed for deletion from the Procurement List:

Commodities

Cleaner, Multi-Purpose

7930-01-393-6759

Enamel, Lacquer

8010-00-941-8712

Mophead, Wet

7920-00-141-5544

7920-00-141-5547

7920-00-141-5548

7920-00-141-5549

7920-00-141-5550

7920-00-171-1148

Tray, Desk, Plastic

7520-01-094-4312

7520-01-094-4311

Patrick T. Mooney,
Director, Pricing and Program Operations.

[FR Doc. 01-15726 Filed 6-21-01; 8:45 am]

BILLING CODE 6353-01-P